DEPARTMENT OF THE INTERIOR

Minerals Management Service

Agency Information Collection Activities: Submitted for Office of Management and Budget (OMB) Review; Comment Request

AGENCY: Minerals Management Service (MMS), Interior.

ACTION: Notice of extension of a currently approved information collection (OMB control number 1010-0050).

SUMMARY: Under the Paperwork Reduction Act of 1995 (PRA), we are submitting to OMB for review and approval an information collection request (ICR), titled “30 CFR 250, Subpart J—Pipelines and Pipeline Rights-of-Way.” We are also soliciting comments from the public on this ICR.

DATES: Submit written comments by July 17, 2000.

ADDRESSES: You may submit comments directly to the Office of Information and Regulatory Affairs, OMB, Attention: Desk Officer for the Department of the Interior (1010-0050), 725 17th Street, NW, Washington, DC 20503. Mail or hand carry a copy of your comments to the Department of the Interior; Minerals Management Service; Attention: Rules Processing Team; Mail Stop 4024; 381 Elden Street; Herndon, Virginia 20170-4817.

Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the collection of information at no cost.

SUPPLEMENTARY INFORMATION: Title: 30 CFR part 250, Subpart J, Pipelines and Pipeline Rights-of-Way (1010-0050).

Abstract: The Outer Continental Shelf (OCS) Lands Act, as amended, 43 U.S.C. 1334(e), authorizes the Secretary of the Interior (Secretary) to grant rights-of-way through the submerged lands of the OCS for pipelines “* * * for the transportation of oil, natural gas, sulphur, or other minerals, or under such regulations and upon such conditions as may be prescribed by the Secretary, * * * including (as provided in section 1347(b) of this title) assuring maximum environmental protection by utilization of the best available and safest technologies, including the safest practices for pipeline burial. * * *” This authority and responsibility are among those delegated to MMS. To carry out these responsibilities, MMS issues regulations governing oil and gas or sulphur operations in the OCS. In addition, MMS issues Notices to Lessees and Operators to supplement regulations to provide guidance and clarification.

The Independent Offices Appropriations Act of 1952 (IOAA), 31 U.S.C. 9701, authorizes Federal agencies to recover the full cost of services that provide special benefits. Under the Department of the Interior's (DOI) policy implementing the IOAA, MMS is required to charge the full cost for services that provide special benefits or privileges to an identifiable non-Federal recipient above and beyond those which accrue to the public at large. Pipeline rights-of-way and assignments are subject to cost recovery, and MMS regulations specify filing fees for applications.

OMB has approved the information collection requirements in current subpart J regulations under control numbers 1010-0050 and 1010-0108. The first is the primary collection for subpart J. The latter was approved in connection with a final rule amending § 250.1000(c) to implement a provision of the new Memorandum of Understanding between DOI and the Department of Transportation (DOT). Our submission will consolidate these two subpart J collections under 1010-0050.

The pipelines are designed by the lessees and transmission companies that install, maintain, and operate them. To ensure those activities are performed in a safe manner, MMS needs information concerning the proposed pipeline and safety equipment, inspections and tests, and natural and manmade hazards near the proposed pipeline route. The information collected under subpart J is used by MMS field offices to review pipeline designs prior to approving an application for a right-of-way or a pipeline permitted under a lease. The records concerning pipeline inspections and tests are monitored by MMS inspectors to ensure safety of operations and protection of the environment. Specifically, MMS uses the information to:

• Monitor schedules for pipeline construction, installation, and tests to enable MMS personnel to schedule their workload to permit the witnessing of these operations to ensure safety and environmental protection.

• Review applications for pipeline permits and rights-of-way and pipeline construction reports to ensure that the pipeline, as constructed, will provide for safe transportation of minerals through the submerged lands of the OCS.

• Review applications for pipeline rights-of-way for compliance with applicable rules and other legal and administrative requirements for the granting of a pipeline right-of-way.

• Review proposed routes of a right-of-way to ensure that the right-of-way, if granted, would not conflict with any State requirements or unduly interfere with other OCS activities.

• Review pipeline repair procedures to ensure that the lessee takes appropriate safety and pollution-prevention measures.

• Review plans for taking pipeline safety equipment out of service to ensure alternate measures are used that will properly provide for the safety of the pipeline and associated facilities (platform, etc.).

• Review reports on findings of historical or potential archeological significance to ensure that such resources are protected.

• Review notification of relinquishment of a right-of-way grant to ensure that all legal obligations are met and that a pipeline will be abandoned properly.

• Determine the point at which DOI or DOT has regulatory responsibility for a pipeline and to be informed of the responsible operator if not the same as the right-of-way holder.

This collection of information does not require respondents to submit proprietary information. If such were submitted, we will protect it under the Freedom of Information Act (5 U.S.C. 552) and its implementing regulations (43 CFR 2) and 30 CFR 250.196. No items of a sensitive nature are collected. Responses are mandatory.

Frequency: The frequency of reporting is on occasion or annual.

Estimated Number and Description of Respondents: Approximately 130 Federal OCS oil, gas, and sulphur lessees and 110 holders of pipeline rights-of way.

Estimated Annual Reporting and Recordkeeping “Hour” Burden: 78,910 hours—refer to the following chart for a breakdown of this estimate.

Citation 30 CFR 250 Subpart J | Reporting and recordkeeping requirement | Number | Burden hours | Annual burden hours
1000(b), (d); 1003(a); 1004(b)(5); 1007(a); 1009(a)(1), (b)(1); 1010; 1011 | Apply for new pipeline (P/L) installation or P/L right-of-way (ROW) grant, including various exceptions/departures requiring approval, and amendments | 296 applications | 140 | 41,440
1000(b); 1007(b); 1010; 1012(b)(2), (c) | Apply to modify approved lease-term P/L or ROW grant; convert lease-term P/L to ROW grant P/L; notify operators of deviation, including various exceptions/departures | 386 modification applications 16 conversion applications | 40 12 | 15,440 192
1000(b); 1006(a); 1007(c); 1009(c)(9); 1014 | Apply to MMS to abandon lease-term P/L or relinquish ROW grant, including various exceptions/departures | 257 applications | 8 | 2,056
1000(c)(2), (c)(3) | Identify in writing P/L operator on ROW if different from ROW grant holder. Mark specific point on P/L where operating responsibility transfers to transporting operator or depict transfer point on a schematic located on the facility | One-time requirement after final rule was published; now part of application or construction process involving no additional burdens |  | 0
1000(c)(4) | Petition to MMS for exceptions to general operations transfer point description | 1 Petition (None received to date.) | 5 | 5
1004(c) | Place sign on safety equipment identified as ineffective and removed from service | See footnote ¹ |  | 0
1008(a), (c), (d), (e), (f), (h) | Notify MMS and submit report on P/L or P/L safety equipment repair, removal from service, analysis results, or potential measurements | 569 notices/ reports | 15 | 8,535
1008(b) | Submit P/L construction report | 239 reports | 16 | 3,824
1008(g) | Submit plan of corrective action and report of remedial action | 12 plans/reports | 16 | 192
1009(c)(4) | Notify MMS of any archaeological resource discovery | 1 discovery notice | 4 | 4
1009(c)(5) | Inform MMS of right-of-way holder's name and address changes | Exempt under 5 CFR 1320.3(h) |  | 0
1011(d) | Request opportunity to eliminate conflict when application has been rejected | 6 requests | 1 | 6
1013 | Apply for assignment of a ROW grant | 248 applications | 12 | 2,976
Reporting—Subtotal | 2,031 Responses |  | 74,670
1005(a) | Inspect P/L routes for indication of leakage ¹, record results, maintain records 2 years ² | 159 lease-term/ROW P/L operators | 20 | 3,180
1009(c)(8) | Make available to MMS design, construcion, operation, maintenance, and repair records on ROW area and improvements ² | 106 P/L ROW holders | 10 | 1,060
Recordkeeping—Subtotal | 159 Recordkeepers |  | 4,240
Total burden | 2,190 |  | 78,910
¹ These activities are usual and customary practices for prudent operators.
² Retaining these records is usual/customary business practice; required burden is minimal.

Estimated Annual Recordkeeping “Non-Hour Cost” Burden: Section 250.1010(a) specifies that an applicant must pay a non-refundable filing fee when applying for a pipeline right-of-way grant to install a new pipeline ($2,350) or to convert an existing lease-term pipeline into a right-of-way pipeline ($300). Under § 250.1013(b) an applicant must pay a non-refundable filing fee ($60) when applying for approval of an assignment of a right-of-way grant. The estimated cost burden is $332,230 based on:

• 133 applications × $2,350 filing fee = $312,550

• 16 applications × $300 filing fee = $4,800

• 248 applications × $60 filing fee = $14,880

Comments: The PRA (44 U.S.C. 3501, et seq.) provides that an agency may not conduct or sponsor, and a person is not required to respond to, a collection of information unless it displays a currently valid OMB control number. Section 3506(c)(2)(A) of the PRA requires each agency * * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

We published a Federal Register notice with the required 60-day comment period soliciting comments on this ICR on February 23, 2000 (65 FR 8985). We received no comments in response to that notice. If you wish to comment in response to this notice, send your comments directly to the offices listed under the ADDRESSES section of this notice. The OMB has up to 60 days to approve or disapprove the information collection but may respond after 30 days. Therefore, to ensure maximum consideration, OMB should receive public comments by July 17, 2000.

MMS Information Collection Clearance Officer: Jo Ann Lauterbach, (202) 208-7744).

Dated: May 12, 2000.
John V. Mirabella,
Acting Chief, Engineering and Operations Division.

[FR Doc. 00-15108 Filed 6-14-00; 8:45 am]

BILLING CODE 4310-MR-P